DEPARTMENT OF THE INTERIOR

National Park Service

[NPS-WASO-NAGPRA-NPS0040150; PPWOCRADN0-PCU00RP14.R50000]

Notice of Inventory Completion: Peabody Museum of Archaeology and Ethnology, Harvard University, Cambridge, MA

AGENCY: National Park Service, Interior.

ACTION: Notice.

SUMMARY: In accordance with the Native American Graves Protection and Repatriation Act (NAGPRA), the Peabody Museum of Archaeology and Ethnology, Harvard University (PMAE) has completed an inventory of human remains and associated funerary objects and has determined that there is a cultural affiliation between the human remains and associated funerary objects and Indian Tribes or Native Hawaiian organizations in this notice.

DATES: Repatriation of the human remains and associated funerary objects in this notice may occur on or after June 16, 2025.

ADDRESSES: Deanna Byrd, Peabody Museum of Archaeology and Ethnology, Harvard University, 11 Divinity Avenue, Cambridge, MA 02138, telephone (617) 384-0672, email deannabyrd@fas.harvard.edu.

SUPPLEMENTARY INFORMATION: This notice is published as part of the National Park Service's administrative responsibilities under NAGPRA. The determinations in this notice are the sole responsibility of the PMAE, and additional information on the determinations in this notice, including the results of consultation, can be found in the inventory or related records. The National Park Service is not responsible for the determinations in this notice.

Abstract of Information Available

Human remains representing, at least, three individuals have been identified as removed from the Rabbit Mount site (GR-1; 38AL15) on Groton Plantation in Allendale and Hampton Counties, SC, by James B. Stoltman and Stephen Williams as part of a PMAE expedition in 1964. The one associated funerary object is one lot of ceramic sherds and fragments, lithics, worked stone items, faunal remains, charcoal, and other natural materials.

Human remains representing, at least, one individual, have been identified as removed from the Clear Mount site (GR-2; 38AL16) on Groton Plantation in Allendale and Hampton Counties, SC, by James B. Stoltman and Stephen Williams as part of a PMAE expedition in 1964. The one associated funerary object is one lot of ceramic sherds, lithics, worked stone items, worked bone and shell items, ceramic items, and nails.

Human remains representing, at least one individual have been identified as removed from an unnamed site on the “Bank of the Broad River” in Richland County, SC, in 1883 by Reverend John Hawkins and donated to the PMAE the same year. The one associated funerary object is one lot of bone beads.

Two associated funerary objects were identified as removed from a mound on Callawassie Island (38BU19) in Beaufort County, SC, by C.B. Moore in 1897 and donated to the PMAE the same year. Human remains from this site are reported by the South Carolina Institute of Archaeology and Anthropology (SCIAA) in a separate notice. The two associated funerary objects are two lots of faunal remains.

Cultural Affiliation

Based on the information available and the results of consultation cultural affiliation is clearly identified by the information available about the human remains and associated funerary objects described in this notice.

Determinations

The PMAE has determined that:

• The human remains described in this notice represent the physical remains of five individuals of Native American ancestry.

• The five objects described in this notice are reasonably believed to have been placed intentionally with or near individual human remains at the time of death or later as part of the death rite or ceremony.

• There is a connection between the human remains and associated funerary objects described in this notice from Allendale, Beaufort, and Hampton Counties, SC, and the Catawba Indian Nation; Poarch Band of Creek Indians; Shawnee Tribe; and The Muscogee (Creek) Nation.

• There is a connection between the human remains and associated funerary objects described in this notice from Richland County, SC, and the Catawba Indian Nation; Cherokee Nation; Eastern Band of Cherokee Indians; The Muscogee (Creek) Nation; and the United Keetoowah Band of Cherokee Indians in Oklahoma.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after June 16, 2025. If competing requests for repatriation are received, the PMAE must determine the most appropriate requestor prior to repatriation. Requests for joint repatriation of the human remains and associated funerary objects are considered a single request and not competing requests. The PMAE is responsible for sending a copy of this notice to the Indian Tribes and Native Hawaiian organizations identified in this notice.

Authority: Native American Graves Protection and Repatriation Act, 25 U.S.C. 3003, and the implementing regulations, 43 CFR 10.10.

Dated: May 6, 2025.
Melanie O'Brien,
Manager, National NAGPRA Program.

[FR Doc. 2025-08776 Filed 5-15-25; 8:45 am]

BILLING CODE 4312-52-P